COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds a product and services to the Procurement List that will be furnished by nonprofit agencies employing persons who are blind or have other severe disabilities, and deletes a product and services from the Procurement List previously furnished by such agencies.

DATES: Date added to and deleted from the Procurement List: July 28, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 3/29/2019, 4/26/2019, 5/10/2019 and 5/17/2019, the Committee for Purchase From People Who Are Blind or Severely Disabled published notice of proposed additions to the Procurement List.

After consideration of the material presented to it concerning capability of qualified nonprofit agencies to provide the product and services and impact of the additions on the current or most recent contractors, the Committee has determined that the product and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the product and services to the Government.

3. There are no known regulatory alternatives which would accomplish the objectives of the Javits-Wagner-O'Day Act (41 U.S.C. 8501-8506) in connection with the product and services proposed for addition to the Procurement List.

End of Certification

Accordingly, the following product and services are added to the Procurement List:

Product

NSN—Product Name: 8540-01-378-6218—Tissue, Toilet, Jumbo, 1-Ply, 3.5″ x 4000″, White, 6 Rolls

Mandatory for: Total Government Requirement

Mandatory Source of Supply: Outlook Nebraska, Inc, Omaha, NE

Contracting Activity: FEDERAL ACQUISITION SERVICE, GSA/FAS ADMIN SVCS ACQUISITION BR(2

Services

Service Type: Records digitization

Mandatory for: Ohio Army Reserve National Guard Element, Joint Forces Headquarters, Columbus, Ohio

Mandatory Source of Supply: Coleman Professional Services, Kent, OH

Contracting Activity: DEPT OF THE ARMY, W7NU USPFO ACTIVITY OH ARNG

Service Type: Mail Center Operations

Mandatory for: US Air Force, Arnold Engineering Development Complex, Official Mail Center, Arnold Air Force Base, TN

Mandatory Source of Supply: CW Resources, Inc., New Britain, CT

Contracting Activity: DEPT OF THE AIR FORCE, FA9101 AEDC PKP PROCRMNT BR

Service Type: Custodial Service

Mandatory for: US Air Force, Joint Base Elmendorf-Richardson, Anchorage, AK

Mandatory Source of Supply: CW Resources, Inc., New Britain, CT

Contracting Activity: DEPT OF THE AIR FORCE, FA5000 673 CONS LGC

Deletions

On 5/3/2019 and 5/24/2019, the Committee for Purchase From People Who Are Blind or Severely Disabled published notice of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the product and services deleted from the Procurement List.

End of Certification

Accordingly, the following product and services are deleted from the Procurement List:

Product

NSN—Product Name: 7210-00-492-8381—Tablecloth, Momie

Mandatory Source of Supply: Cambria County Association for the Blind and Handicapped, Johnstown, PA

Contracting Activity: GSA/FSS GREATER SOUTHWEST ACQUISITI

Service

Service Type: Custodial Services

Mandatory for: J. Allen Frear Federal Building, Dover, DE

Mandatory Source of Supply: Opportunity Center, Incorporated, Wilmington, DE

Contracting Activity: PUBLIC BUILDINGS SERVICE, GSA/PBS/R03 DELAWARE VALLEY FO

Service Type: Supply and Warehousing Service

Mandatory for: E/27th Main Support Battalion: 1st Cavalry, Division, Fort Hood, TX

Mandatory Source of Supply: Professional Contract Services, Inc., Austin, TX

Contracting Activity: DEPT OF THE ARMY, W6QM MICC-FDO FT HOOD

Patricia Briscoe,
Deputy Director, Business Operations (Pricing and Information Management).

[FR Doc. 2019-13818 Filed 6-27-19; 8:45 am]

BILLING CODE 6353-01-P